NUCLEAR REGULATORY COMMISSION

[NRC-2020-0026]

Standard Format and Content of License Applications for Receipt and Storage of Unirradiated Power Reactor Fuel and Associated Radioactive Material at a Nuclear Power Plant

AGENCY: Nuclear Regulatory Commission.

ACTION: Draft regulatory guide; request for comment.

SUMMARY: The U.S. Nuclear Regulatory Commission (NRC) is issuing for public comment draft regulatory guide (DG), DG-3036, “Standard Format and Content of License Applications for Receipt and Storage of Unirradiated Power Reactor Fuel and Associated Radioactive Material at a Nuclear Power Plant.” This regulatory guide (RG) describes the standard format and content that the NRC staff considers acceptable for license applications to authorize the receipt, possession, and storage of unirradiated fuel assemblies and associated radioactive materials at a nuclear power plant.

DATES: Submit comments by April 20, 2020. Comments received after this date will be considered if it is practical to do so, but the NRC is able to ensure consideration only for comments received on or before this date.

Although a time limit is given for public comment, comments and suggestions in connection with items for inclusion in RGs currently being developed or improvements in all published RGs are encouraged at any time.

ADDRESSES: You may submit comments by any of the following methods:

• Federal Rulemaking Website: Go to https://www.regulations.gov and search for Docket ID NRC-2020-0026. Address questions about NRC docket IDs in Regulations.gov to Jennifer Borges; telephone: 301-287-9127; email: Jennifer.Borges@nrc.gov. For technical questions, contact the individuals listed in the FOR FURTHER INFORMATION CONTACT section of this document.

• Mail comments to: Office of Administration, Mail Stop: TWFN-7A06, U.S. Nuclear Regulatory Commission, Washington, DC 20555-0001. ATTN: Program Management, Announcements and Editing Staff.

For additional direction on obtaining information and submitting comments, see “Obtaining Information and Submitting Comments” in the SUPPLEMENTARY INFORMATION section of this document.

FOR FURTHER INFORMATION CONTACT: Kevin Ramsey, Office of Nuclear Materials Safety and Safeguards, telephone: 301-415-7506, email: Kevin.Ramsey@nrc.gov, and Edward O'Donnell, Office of Nuclear Regulatory Research, telephone: 301-415-3317, email: Edward.ODonnell@nrc.gov. Both are staff of the U.S. Nuclear Regulatory Commission, Washington, DC 20555-0001.

SUPPLEMENTARY INFORMATION:

I. Obtaining Information and Submitting Comments

A. Obtaining Information

Please refer to Docket ID NRC-2020-0026 when contacting the NRC about the availability of information regarding this document. You may obtain publicly-available information related to this document by any of the following methods:

• Federal Rulemaking website: Go to https://www.regulations.gov and search for Docket ID NRC-2020-0026.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. DG-3036 is available in ADAMS under Accession No. ML14161A621.

• NRC's PDR: You may examine and purchase copies of public documents at the NRC's PDR, Room O1-F21, One White Flint North, 11555 Rockville Pike, Rockville, Maryland 20852.

B. Submitting Comments

Please include Docket ID NRC-2020-0026 in your comment submission. The NRC cautions you not to include identifying or contact information in comment submissions that you do not want to be publicly disclosed. The NRC posts all comment submissions at https://www.regulations.gov as well as enters the comment submissions into ADAMS. The NRC does not routinely edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

II. Additional Information

The NRC is issuing for public comment a draft guide in the NRC's “Regulatory Guide” series. This series was developed to describe and make available to the public such information as methods that are acceptable to the NRC staff for implementing specific parts of the NRC's regulations, techniques that the staff uses in evaluating specific problems or postulated events, and data that the staff needs in its review of applications for permits and licenses.

The draft regulatory guide, entitled “Standard Format and Content of License Applications for Receipt and Storage of Unirradiated Power Reactor Fuel and Associated Radioactive Material at a Nuclear Power Plant,” is temporarily identified by its task number, DG-3036. DG-3036 is proposed revision 2 of Regulatory Guide 3.15. The guide describes a method that the staff of the U.S. Nuclear Regulatory Commission (NRC) considers acceptable for use in preparing license applications to authorize the receipt, possession, and storage of unirradiated fuel assemblies and associated radioactive materials at a nuclear power reactor for eventual use in that reactor and provides a format for a license application.

This revision of the guide (revision 2) updates references and reflects experience gained in licensing, operation, and subsequent decommissioning of unirradiated power reactor fuel storage sites since the guide was addresses new issues identified since the guide was originally issued in April 1983.

III. Backfitting, Issue Finality, and Forward Fitting

Issuance of this draft regulatory guide in final form would not constitute backfitting as defined in title 10 of the Code of Federal Regulations (10 CFR) section 50.109, “Backfitting,” and as described in NRC Management Directive 8.4, “Management of Backfitting, Forward Fitting, Issue Finality, and Information Requests”; constitute forward fitting as that term is defined and described in Management Directive 8.4; or affect issue finality of any approval issued under 10 CFR part 52, “Licenses, Certificates, and Approvals for Nuclear Power Plants.” As explained in the draft regulatory guide, licensees would not be required to comply with the positions set forth in this draft regulatory guide.

Dated at Rockville, Maryland, this 13th day of February, 2020.
For the Nuclear Regulatory Commission.
Robert G. Roche-Rivera,
Acting Chief, Regulatory Guidance and Generic Issues Branch, Division of Engineering, Office of Nuclear Regulatory Research.

[FR Doc. 2020-03238 Filed 2-18-20; 8:45 am]

BILLING CODE 7590-01-P